DEPARTMENT OF HOMELAND SECURITY

Transportation Security Administration

[Docket No. TSA-2005-20118]

Extension of Agency Information Collection Activity Under OMB Review: Maryland-Three Airports: Enhanced Security Procedures at Certain Airports in the Washington, DC, Area

AGENCY: Transportation Security Administration, DHS.

ACTION: 30 day notice.

SUMMARY: This notice announces that the Transportation Security Administration (TSA) has forwarded the Information Collection Request (ICR), OMB control number 1652-0029, abstracted below to the Office of Management and Budget (OMB) for review and approval of an extension of the currently approved collection under the Paperwork Reduction Act. The ICR describes the nature of the information collection and its expected burden. TSA published a Federal Register notice, with a 60-day comment period soliciting comments, of the following collection of information on September 2, 2008, 73 FR 51313. This collection requires individuals to successfully complete a security threat assessment in order to operate an aircraft to or from one of the three Maryland airports that are located within the Washington, DC, Metropolitan Area Flight Restricted Zone (Maryland-Three airports), or to serve as an airport security coordinator at one of these three airports.

DATES: Send your comments by December 29, 2008. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Office of Information Technology, TSA-11, Transportation Security Administration, 601 South 12th Street, Arlington, VA 22202-4220; telephone (571) 227-3651; facsimile (703) 313-4427.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Maryland-Three Airports: Enhanced Security Procedures at Certain Airports in the Washington, DC, Area.

Type of Request: Extension of a currently approved collection.

OMB Control Number: 1652-0029.

Forms(s): Personal Identification Number Issuance Form.

Affected Public: Maryland-Three airports and individuals who seek to operate an aircraft to or from one of the three Maryland airports, or to serve as an airport security coordinator at one of these three airports.

Abstract: Part 1562 of title 49, Code of Federal Regulations, requires the establishment of security measures that permit normal flight operations to resume at the Maryland-Three airports (College Park, Potomac Field, and Hyde Field). To that end, TSA requires applicants seeking to fly to or from one of the Maryland-Three airports, or to serve as security coordinators in one of these airports, to submit personal information and fingerprints. TSA will use the applicant's information and fingerprints to conduct a security threat assessment. An applicant will not receive TSA's approval to fly to or from one of the Maryland-Three airports, or to serve as a security coordinator in one of these airports, if TSA determines or suspects the individual of being a threat to national or transportation security.

Number of Respondents: 400.

Estimated Annual Burden Hours: 1,165.7. Although TSA reported in its September 2, 2008, notice that the total annual hour burden was approximately 8,299 hours, after further consideration, TSA has revised its hour burden estimate in this notice.

Issued in Arlington, Virginia, on November 24, 2008.
Kurt Guyer,
Program Manager, Business Improvements and Communications, Office of Information Technology.

[FR Doc. E8-28394 Filed 11-26-08; 8:45 am]

BILLING CODE 9110-05-P